DEPARTMENT OF STATE

[Public Notice: 7811]

Shipping Coordinating Committee; Notice of Committee Meeting

The Shipping Coordinating Committee (SHC) will conduct an open meeting at 9:30 a.m. on Tuesday, April 24, 2012, in Room 6103 of the United States Coast Guard Headquarters Building, 2100 Second Street, SW., Washington, DC 20593-0001. The primary purpose of the meeting is to prepare for the forty-third Session of the International Maritime Organization's (IMO) Sub-Committee on Standards of Training and Watchkeeping (STW) to be held at the IMO Headquarters, United Kingdom, April 30-May 4, 2012.

The primary matters to be considered include:

Validation of model training courses.

Development of an e-navigation strategy implementation plan.

Development of training standards for recovery systems.

Preparation of guidelines for the implementation of the medical standards of the 2010 amendments.

Development of guidance for the implementation of the 2010 Manila amendments.

Role of the human element.

Members of the public may attend this meeting up to the seating capacity of the room. To facilitate the building security process, and to request reasonable accommodation, those who plan to attend should contact the meeting coordinator, Ms. Zoe Goss, by email at zoe.a.goss@uscg.mil, by phone at (202) 372-1425, by fax at (202) 372-1926, or in writing at Commandant (CG-52), U.S. Coast Guard, 2100 2nd Street, SW., Stop 7126, Washington, DC 20593-7126 not later than April 17, 2012, 7 days prior to the meeting. Requests made after April 17, 2012 might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: www.uscg.mil/imo.

Dated: March 9, 2012.
Brian Robinson,
Executive Secretary, Shipping Coordinating Committee, Department of State.

[FR Doc. 2012-6737 Filed 3-19-12; 8:45 am]

BILLING CODE 4710-09-P